SECURITIES AND EXCHANGE COMMISSION

Sunshine Act Meeting

Notice is hereby given, pursuant to the provisions of the Government in the Sunshine Act, Public Law 94-409, that the Securities and Exchange Commission will hold an Open Meeting on August 24, 2011 at 10 a.m., in the Auditorium, Room L-002, to hear oral argument in an appeal by Eric J. Brown, Matthew J. Collins, Kevin J. Walsh, and Mark W. Wells (collectively, “Respondents”) and a cross-appeal by the Division of Enforcement from an initial decision of an administrative law judge.

Brown and Walsh were formerly associated with registered broker-dealer Prime Capital Services, Inc. (“Prime Capital”), and Collins and Wells are currently associated with Prime Capital.

The law judge found that, in sales of variable annuities to elderly customers, Respondents violated Section 17(a) of the Securities Act of 1933, Section 10(b) of the Securities Exchange Act of 1934, and Exchange Act Rule 10b-5, and Exchange Act Section 17(a) and Exchange Act Rule 17a-3. The law judge also found that Collins failed to reasonably supervise Brown within the meaning of Exchange Act Sections 15(b)(4)(E) and 15(b)(6). For these violations, the law judge issued cease-and-desist orders against Respondents, ordered Respondents to disgorge commissions earned from selling certain variable annuities, barred Respondents from associating with a broker, dealer, or investment adviser, and imposed a third-tier civil monetary penalty of $130,000 against each Respondent.

Issues likely to be considered at oral argument include whether Respondents violated the above provisions and, if so, the extent to which, under the circumstances, sanctions are warranted.

For further information, please contact the Office of the Secretary at (202) 551-5400.

Dated: August 17, 2011.
Elizabeth M. Murphy,
Secretary.

[FR Doc. 2011-21463 Filed 8-18-11; 11:15 am]

BILLING CODE 8011-01-P